DEPARTMENT OF HEALTH AND HUMAN SERVICES

National Institutes of Health

Center for Scientific Review; Amended Notice of Meeting

Notice is hereby given of a change in the meeting of the Integrative and Clinical Endocrinology and Reproduction Study Section, February 18, 2021, 09:00 a.m. to February 19, 2021, 07:00 p.m., National Institutes of Health, Rockledge II, 6701 Rockledge Drive, Bethesda, MD 20892 which was published in the Federal Register on January 22, 2021, 86 FR 6659.

This notice is being amended to change the meeting date from 2/18/2021—2/19/2021 to 2/18/2021. The meeting is closed to the public.

Dated: February 2, 2021.
Tyeshia M. Roberson,
Program Analyst, Office of Federal Advisory Committee Policy.

[FR Doc. 2021-02492 Filed 2-5-21; 8:45 am]

BILLING CODE 4140-01-P